DEPARTMENT OF ENERGY

Federal Energy Regulatory Commission

[Docket No. RD14-11-000]

Proposed Agency Information Collection

AGENCY: Federal Energy Regulatory Commission, Energy.

ACTION: Notice and Request for Comments.

SUMMARY: The Federal Energy Regulatory Commission (Commission) invites public comment in Docket No. RD14-11-000 on a proposed change to a collection of information that the Commission is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before October 10, 2014.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver an original of their comments to: Federal Energy Regulatory Commission, Secretary of the Commission, 888 First Street NE., Washington, DC 20426.

FOR FURTHER INFORMATION CONTACT: Ellen Brown may be reached by email at DataClearance@FERC.gov, telephone at (202) 502-8663, and fax at (202) 273-0873.

SUPPLEMENTARY INFORMATION: The proposed information collection changes in Docket No. RD14-11-000 relate to the proposed Reliability Standards VAR-001-4 (Voltage and Reactive Control) and VAR-002-3 (Generator Operation for Maintaining Network Voltage Schedules), developed by the North American Electric Reliability Corporation (NERC), and submitted to the Commission for approval. The Commission received NERC's petition to approve the proposed Reliability Standards on June 9, 2014.

NERC summarizes the VAR group of standards as follows:

The Voltage and Reactive (“VAR”) group of Reliability Standards, which consists of two continent-wide Reliability Standards, VAR-001-3 and VAR-002-2b, is designed to maintain voltage stability on the Bulk-Power System, protect transmission, generation, distribution, and customer equipment, and support the reliable operation of the Bulk-Power System.¹

¹ NERC Petition at 3.

In its petition, NERC also summarizes the proposed Reliability Standards' applicability and requirements:

In general, proposed Reliability Standard VAR-001-4 sets forth the requirements applicable to Transmission Operators for scheduling, monitoring, and controlling Reactive Power resources in the Real-time Operations, Same-day Operations, and Operational Planning time horizons to regulate voltage and Reactive Power flows for the reliable operation of the Bulk-Power System. Proposed Reliability Standard VAR-002-3 sets forth the requirements applicable to Generator Operators and Generator Owners for providing the necessary reactive support and voltage control necessary to maintain reliable operations. Generators are the largest and most reliable Reactive Power resource and play an integral role in maintaining voltage stability on the Bulk-Power System. Collectively, the proposed Reliability Standards are designed to prevent voltage instability and voltage collapse on the Bulk-Power System.²

² Id. at 4.

Finally, NERC also states that the proposed Reliability Standards improve reliability, clarify requirement language and eliminate redundant or unnecessary requirements.³

³ Id. at 15.

Burden Statement: Commission staff analyzed the proposed and currently enforced standards and has concluded that while information collection requirements have been deleted, added, and/or changed, the overall paperwork burden and applicable respondent universe remains unchanged. However, the Commission intends to submit a request for approval to OMB under the Paperwork Reduction Act (PRA) related to the proposed Reliability Standards because there are substantive changes to information collection requirements. For PRA purposes, the information collection requirements in proposed Reliability Standards VAR-001-4 and VAR-002-3 are identified as FERC-725A and OMB Control Number 1902-0244.

Dated: July 31, 2014.
Kimberly D. Bose,
Secretary.

[FR Doc. 2014-18893 Filed 8-8-14; 8:45 am]

BILLING CODE 6717-01-P